NEIGHBORHOOD REINVESTMENT CORPORATION

Sunshine Act Meetings

TIME AND DATE: 3:00 p.m., Tuesday, August 13, 2024.

PLACE: via ZOOM.

STATUS: Parts of this meeting will be open to the public. The rest of the meeting will be closed to the public.

MATTERS TO BE CONSIDERED: Audit Committee of the Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: GAO Workplan Update

IV. Executive Session: Ethics Officer Report

V. Executive Session: Chief Audit Executive Report

VI. Discussion Item: Internal Audit Status Report

a. Internal Audit Performance Scorecard

b. Implementation of Internal Audit Recommendations

c. Internal Audit FY24 Project Status

d. Quality Assurance Improvement Program

VII. Management Reports

a. Network Watchlist Report

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2024-17667 Filed 8-6-24; 11:15 am]

BILLING CODE 7570-01-P